DEPARTMENT OF COMMERCE

National Oceanic and Atmospheric Administration

[RTID 0648-XA077]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Tuesday, April 7, 2020, from 2 p.m. to 5 p.m.; Wednesday, April 8, 2020, from 9 a.m. to 5:30 p.m.; and Thursday, April 9, 2020, from 9 a.m. to 1 p.m. For agenda details, see SUPPLEMENTARY INFORMATION.

ADDRESSES: The meeting will be held at Seaview, A Dolce Hotel, 401 S. New York Rd., Galloway, NJ; telephone: (609) 652-1800.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Tuesday, April 7, 2020

2020 Mid-Atlantic State of the Ecosystem Report

EAFM Updates

2020 Risk Assessment, Summer Flounder Management Strategy Evaluation update, and other EAFM related activities

Climate Change Scenario Planning

Introduction to scenario planning and plan for potential East Coast/Mid-Atlantic scenario planning exercise

Wednesday, April 8, 2020

South Atlantic Electronic Reporting

Update on South Atlantic for-hire reporting requirements

Blueline Tilefish 2021 Specifications

Review SSC, Advisory Panel, Monitoring Committee, and staff recommendations for 2021 specifications and recommend changes to 2021 specifications if necessary

Golden Tilefish 2021-22 Specifications

Review SSC, Advisory Panel, Monitoring Committee, and staff recommendations for 2021-22 specifications and adopt 2021-22 specifications

Ocean Data Portals Commercial Fisheries Data Project

Offshore Wind Updates

Ocean Wind Project and Atlantic Shores Wind Project

Black Sea Bass Commercial State Allocation Amendment

Review scoping plan and document

Citizen Science

GARFO/NEFSC Joint Strategic Plan

Presentation on final NEFSC/GARFO Regional Strategic Plan for 2020-23 and Annual Implementation Plan

Thursday, April 9, 2020

Business Session

Committee Reports: SSC; Executive Director's Report; Organization Reports; and, Liaison Reports

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Authority: 16 U.S.C. 1801 et seq.

Dated: March 11, 2020.
Tracey L. Thompson,
Acting Deputy Director, Office of Sustainable Fisheries, National Marine Fisheries Service.

[FR Doc. 2020-05303 Filed 3-13-20; 8:45 am]

BILLING CODE 3510-22-P